ENVIRONMENTAL PROTECTION AGENCY

[FRL-8284-4]

Notice of a Second Workshop on the Development of Regulations for Aircraft Public Water Systems

AGENCY: Environmental Protection Agency.

ACTION: Notice of a public meeting.

SUMMARY: The Environmental Protection Agency (EPA) is holding a second workshop on the development of regulations for aircraft public water systems. This workshop will provide information about recent activities and an overview of approaches for the proposed Aircraft Drinking Water Rule. This is the second workshop in a series designed to gain perspectives from representatives from industry, government, public interest groups, and the general public.

DATES: The workshop will be held from 9 a.m. to 5 p.m., Eastern time (ET), on Wednesday, March 28, 2007 and from 9 a.m. to 4 p.m. ET, Thursday, March 29, 2007, with one and a half hour lunch breaks each day.

ADDRESSES: The meeting will be held at the Sheraton Crystal City Hotel, 1800 Jefferson Davis Highway, Arlington, VA in Ballroom A. The hotel is located adjacent to the Crystal City Metro Station on the blue and yellow lines.

FOR FURTHER INFORMATION CONTACT: For general information about this workshop or to pre-register, please contact Kathryn Aegis, RESOLVE, 1255 23rd St., NW., Washington, DC 20037, telephone number 202-965-6393, or e-mail at kaegis@resolv.org. For technical inquiries regarding the development of an aircraft drinking water rule, contact Rick Naylor at (202) 564-3847, or by e-mail: naylor.richard@epa.gov.

SUPPLEMENTARY INFORMATION: There is no charge for attending this workshop as an observer, but seats are limited, so register as soon as possible. We suggest attendees book their hotel room as soon as possible because the workshop is being held during a peak time of the tourist season for Washington, DC.

Special Accommodations

Any person needing special accommodations at this meeting, including wheelchair access, should contact Kathryn Aegis at the phone number or e-mail address listed in the FOR FURTHER INFORMATION CONTACT section of this notice. Requests for special accommodations should be made at least five business days in advance of the public meeting.

Dated: February 23, 2007.
Cynthia C. Dougherty,
Director, Office of Ground Water and Drinking Water.

[FR Doc. E7-4174 Filed 3-7-07; 8:45 am]

BILLING CODE 6560-50-P